DEPARTMENT OF HEALTH & HUMAN SERVICES

Administration for Children and Families

Administration on Children, Youth and Families, Children's Bureau

Funding Opportunity Title: Model Development or Replication to Implement the CAPTA Requirement to Identify and Serve Substance Exposed Newborns.

Announcement Type: Initial.

Funding Opportunity Number: HHS-2005-ACF-ACYF-CB-0050.

CFDA Number: 93.551.

Due Date for Applications: Application is due August 5, 2005.

Executive Summary: The purpose of this funding opportunity is to provide financial support to develop or replicate and test a model of policies and procedures that implement the new provisions of the Child Abuse Prevention and Treatment Act (CAPTA) regarding substance exposed newborns. Applicants may choose to develop new models, replicate existing models or replicate key components of existing models of policies and procedures for identifying and serving families with children prenatally exposed to illegal drugs, and to test the effectiveness of the model in other settings. The projects funded under this priority area will incorporate features and components that hold promise for contributing to an expansion of the knowledge base about the development of effective policies and procedures for states and communities to use in identifying and providing services to these children and their families.

I. Funding Opportunity Description

Model Development or Replication to Implement the CAPTA Requirement to Identify and Serve Substance Exposed Newborns.

The purpose of this funding opportunity is to provide financial support to develop or replicate and test a model of policies and procedures that implement the new provisions of the Child Abuse Prevention and Treatment Act (CAPTA) regarding substance exposed newborns. Applicants may choose to develop new models, replicate existing models or replicate key components of existing models of policies and procedures for identifying and serving families with children prenatally exposed to illegal drugs, and to test the effectiveness of the model in other settings. The projects funded under this priority area will incorporate features and components that hold promise for contributing to an expansion of the knowledge base about the development of effective policies and procedures for states and communities to use in identifying and providing services to these children and their families.

Priority Area:

Model Development or Replication To Implement the CAPTA Requirement To Identify and Serve Substance Exposed Newborns

The purpose of this funding opportunity is to provide financial support to develop or replicate and test a model of policies and procedures that implement the new provisions of the Child Abuse Prevention and Treatment Act (CAPTA) regarding substance exposed newborns. Applicants may choose to develop new models, replicate existing models or replicate key components of existing models of policies and procedures for identifying and serving families with children prenatally exposed to illegal drugs, and to test the effectiveness of the model in other settings. The projects funded under this priority area will incorporate features and components that hold promise for contributing to an expansion of the knowledge base about the development of effective policies and procedures for states and communities to use in identifying and providing services to these children and their families.

Background Information: State and local child welfare agencies, hospitals and other health care facilities, substance abuse treatment and other community-based agencies have been serving families with children prenatally exposed to illegal drugs for many years. In addition, the Child Abuse Prevention and Treatment Act (CAPTA), recently reauthorized under the Keeping Children and Families Safe Act of 2003, established new legislative responsibilities regarding prenatally exposed infants.

Under the new CAPTA requirement, States must have in place:

“(ii) Policies and procedures (including appropriate referrals to child protection service systems and for other appropriate services) to address the needs of infants born and identified as being affected by illegal substance abuse or withdrawal symptoms resulting from prenatal drug exposure, including a requirement that health care providers involved in the delivery or care of such infants notify the child protective services system of the occurrence of such condition in such infants, except that such notification shall not be construed to:

(I) Establish a definition under Federal law of what constitutes child abuse; or

(II) Require prosecution for any illegal action;

(iii) The development of a plan of safe care for the infant born and identified as being affected by illegal substance abuse or withdrawal symptoms (106(b)(2)(A)(ii)(I) and (II) and (b)(2)(A)(iii))”.

Although there is a considerable body of knowledge regarding the impact of illegal drug use by pregnant women on their newborn children and a growing body of research on the benefits of early identification and appropriate service provision for children prenatally exposed to illegal drugs, information about successful policies and procedures for identifying and serving this population has only recently become available. Currently, both the National Center on Substance Abuse and Child Welfare and the Abandoned Infants Assistance Resource Center are undertaking efforts to identify State policies, practices, programs and related challenges in implementing the new CAPTA requirements.

The National Center on Substance Abuse and Child Welfare, a joint project of the Substance Abuse and Mental Health Services Administration's Center for Substance Abuse Treatment (SAMHSA/CSAT) and the Administration for Children and Families' Children's Bureau (ACF/CB), is conducting a task to collect information on State policies and practices and exemplary programs for working with families identified with substance exposed newborns. In addition, the Abandoned Infants Assistance Resource Center, is conducting a complementary project to examine policies and practices, identify promising practices and examine the impact of the new CAPTA legislation. (For information on the work of these two organizations, go to http://www.ncsacw.samhsa.gov/ and http://aia.berkeley.edu/.) It is anticipated that both studies will identify examples of strong approaches, promising practices, and model policies and procedures that could be considered for replication under this grant program. However, other models may be developed or selected for replication.

Applications for grants under this priority area must explain why a new model is being developed, or, if a replication, why that model was chosen. The model and its key components must be described in detail. Applicants must propose to develop or replicate a policy and procedural model that is useful, effective, and positive in its approach to identifying these newborns and working with other relevant systems in establishing a safe care plan for children.

Need/Rationale: CAPTA was reauthorized in June 2003 as part of the Keeping Children and Families Safe Act of 2003. A number of new requirements were added for State Child Protective Services (CPS) agencies including the requirement that States have policies and procedures in place for the referral to CPS of substance exposed newborns and the development of a plan of safe care for these children. This new requirement is especially significant, given that it has been estimated that more than 50% of child welfare cases have parental substance abuse as a contributing factor. In recent years, some States have implemented procedures to deal with substance exposed newborns. In some States, the identification of a substance exposed newborn has required an automatic referral to CPS, while in other States, women giving birth to substance exposed newborns may have been subject to prosecution. Responses to the complex problems of substance exposed newborns have varied greatly from State to State from a minimal response to a punitive response. A comprehensive approach to addressing these issues should include developing appropriate mechanisms to identify the substance exposed newborns, ensuring the safety of the child, engaging parents in treatment, and fostering collaboration among child welfare, substance abuse, health care and other relevant community supports.

It is anticipated that the projects funded under this priority area will contribute to the body of knowledge regarding the development of effective State and local policies and procedures that ensure: (1) Appropriate and productive collaborations among child welfare, substance abuse and the health care communities, and other relevant community agencies, and (2) identification, early assessment and intervention for children and families. Models to be developed or replicated should be consistent with the new CAPTA requirements that call for policies and procedures that ensure notification of child protective services and the establishment of a plan of safe care to address the needs of infants born and identified as being affected by illegal substance abuse or withdrawal symptoms resulting from pre-natal drug exposure. Model policies and procedures should also provide parents and other caregivers with treatment interventions and case management that ensure proper infant care. Special attention should be given to the development of effective policies and procedures to improve the ability of States to meet the Child and Family Services Reviews (CFSR) safety and well-being indicators and outcomes related to child maltreatment. The legislation requires that health care personnel notify CPS in the event of a substance exposed birth. Therefore, special attention should also be given to effective collaboration among multiple child serving agencies and organizations.

A unique feature of this priority area is that the first year of these projects is to be used for planning and developing the collaborative relationship among relevant agencies and programs. The projects are to be implemented and evaluated and findings are to be disseminated during the second and third years. The final report at the end of the third year must include a written product describing the model, the policies, and the evaluation of the project. At the end of the third year, there is potential for an additional two years of funding for the purposes of further dissemination and implementation of the project in other jurisdictions.

As a part of their proposal, applicants are required to describe their strategy for a 12-month planning phase for the development of the model or the replication of the existing model or the selected components, and their strategy for a 24-month implementation and evaluation phase. Applicants are not expected to describe their strategy for possible years four and five of funding for dissemination and implementation.

Legislative Authority

The Promoting Safe and Stable Families Program (Section 430, Title IV-B, subpart 2, of the Social Security Act) (42 U.S.C. 629a).

The Child Abuse Prevention and Treatment Act Section 105(b)(5) (42 U.S.C. 5106).

Public Law 100-505, the Abandoned Infants Act of 1988 as amended by the Keeping Children and Families Safe Act of 2003 (Pub. L. 108-36).

Projects funded under this announcement will be expected to:

1. Have the project fully functioning within 90 days following the notification of the grant award.

2. Participate if the Children's Bureau chooses to do a national evaluation or a technical assistance contract that relates to this funding announcement.

3. Submit all performance indicator data, program and financial reports in a timely manner, in recommended format (to be provided), and submit the final report on disk or electronically using a standard word-processing program.

4. Submit a copy of the final report, the evaluation report, and any program products to the National Clearinghouse on Child Abuse and Neglect Information, 330 C Street, SW., Washington, DC 20447, within 90 days of project end date. This is in addition to the standard requirement that the final program and evaluation report must also be submitted to the Grants Management Specialist and the Federal Project Officer.

5. Allocate sufficient funds in the budget to:

(a) Provide for the project director, the evaluator and other key partners to attend an annual 3-day grantees' meeting in Washington, DC.

(b) Provide for the project director, the evaluator and other key partners to attend an early kickoff meeting for grantees funded under this priority area to be held within the first three months of the project (first year only) in Washington, DC; and

(c) Provide for 10-15 percent of the proposed budget to project evaluation.

II. Award Information

Funding Instrument Type: Grant.

Anticipated Total Priority Area Funding: $600,000.

Anticipated Number of Awards: 0 to 4.

Ceiling on Amount of Individual Awards: $250,000 per budget period.

Average Projected Award Amount: $150,000.

Length of Project Periods: 60-month project with five 12-month budget periods; Other.

Explanation of Other: In the FIRST budget period, the maximum Federal share of each project is not to exceed $150,000. In each SUBSEQUENT budget period, the maximum Federal share of each project is not to exceed $250,000. The projects awarded will be for a project period of 60 months. The initial grant award will be for a 12-month budget period. The award of continuation beyond each 12-month budget period will be subject to the availability of funds, satisfactory progress on the part of the grantee, and a determination that continued funding would be in the best interest of the government.

III. Eligibility Information

1. Eligible Applicants

State governments,

County governments,

City or township governments,

Special district governments,

State controlled institutions of higher education,

Native American tribal governments (Federally recognized),

Native American tribal organizations (other than Federally recognized

tribal governments),

Nonprofits having a 501(c)(3) status with the IRS, other than institutions of higher education,

Private institutions of higher education,

For-profit organization other than small businesses,

Small businesses.

Additional Information on Eligibility:

If the applicant is not the State/county child welfare/CPS agency, they should demonstrate a strong existing collaboration with the State/county child welfare/CPS agency that has the authority/responsibility for developing and implementing the relevant policies, procedures and plans.

Non-profit and for-profit applicants should be hospitals serving the target population.

Applications should demonstrate strong collaboration between the relevant child welfare/CPS, substance abuse and health care organizations.

Collaborative and interdisciplinary efforts are acceptable, but applications should identify a primary applicant responsible for administering the grant.

Fatherhood organizations that are otherwise eligible to apply are eligible to apply.

2. Cost Sharing/Matching

Yes.

Matching/Cost-Sharing

Grantees must provide at least 10 percent of the total approved cost of the project. The total approved cost of the project is the sum of the ACF share and the non-Federal share. The non-Federal share may be met by cash or in-kind contributions, although applicants are encouraged to meet their match requirements through cash contributions. Therefore, a project requesting $150,000 in Federal funds (based on an award of $150,000 per budget period) must provide a match of at least $16,667 (10 percent of the total approved project costs). Grantees will be held accountable for commitments of non-Federal resources even if over the amount of the required match. Failure to provide the amount will result in disallowance of Federal dollars.

Cost-sharing will not be used as a preference and/or evaluation criterion in the review of applications.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be considered for funding under this announcement.

Any application that fails to satisfy the deadline requirements referenced in Section IV.3 will be considered non-responsive and will not be considered for funding under this announcement.

IV. Application and Submission Information

1. Address To Request Application Package

ACYF Operations Center, c/o The Dixon Group, Inc. ATTN: Children's Bureau, 118 Q St., NE., Washington, DC 20002-2132.

2. Content and Form of Application Submission

Each application must contain the following items in the order listed:

Application for Federal Assistance (Standard Form 424). Follow the instructions below and those that accompany the form.

In Item 5 of Form 424, put DUNS number in “Organizational DUNS:” box.

In Item 5 of Form 424, include name, phone number, and, if available, email and fax numbers of the contact person.

In Item 8 of Form 424, check ‘New.’

In Item 10 of Form 424, clearly identify the Catalog of Federal Domestic Assistance (CFDA) program title and number for the program for which funds are being requested as stated in this funding opportunity announcement.

In Item 11 of Form 424, identify the single funding opportunity the application addresses.

In Item 12 of Form 424, identify the specific geographic area to be served.

In Item 14 of Form 424, identify Congressional districts of both the applicant and project.

Budget Information Non-Construction Programs (Form 424A) and Budget Justification.

Follow the instructions provided here and those in Section V. Application Review Information. Note that Federal funds provided to States and services or other resources purchased with Federal funds may not be used to match project grants.

Certifications/Assurances. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the applications.

If applicable, applicants must include a completed SPOC certification (Single Point of Contact) with the date of the SPOC contact entered in line 16, page 1 of the Form 424.

In implementing their projects, grantees are expected to comply with all applicable administrative regulations regarding extent or types of costs. Applicable DHHS regulations can be found in 45 CFR Part 74 or 92.

Project Abstract/Summary (one-page maximum, double spaced). Clearly mark this page with the applicant name as shown on item 5 of the Form 424, identify the competitive grant funding opportunity and the title of the proposed project as shown in item 11 and the service area as shown in item 12 of the Form 424. The summary description should not exceed 300 words.

Care should be taken to produce an abstract/summary that accurately and concisely reflects the proposed project. It should describe the objectives of the project, the approach to be used and the results or benefits expected.

Project Description for Evaluation. Applicants should organize their project description in this sequence: (1) Objectives and Need for Assistance; (2) Approach; (3) Organizational Profiles; (4) Budget and Budget Justification.

Match. Provide a letter of commitment verifying the actual amount of the non-Federal share of project costs (see Section III.2).

Indirect cost rate agreement. If claiming indirect costs, provide documentation that applicant currently has an indirect cost rate approved by the Department of Health and Human Services (HHS) or another cognizant Federal agency.

Letters of agreement and memoranda of understanding. If applicable, include a letter of commitment or Memorandum of Understanding from each partner and/or sub-contractor describing their role, detailing specific tasks to be performed, and expressing commitment to participate if the proposed project is funded.

General Content and Form Information

The application limit is 75 pages total including all forms and attachments. Pages over this page limit will be removed from the application and will not be reviewed.

The Children's Bureau strongly prefers that the entire application (including all forms, assurances, and letters of commitment) be sent in one package.

To be considered for funding, each application must be submitted with the Standard Federal Forms (provided at the end of this announcement or through the electronic links provided) and following the guidance provided. The application must be signed by an individual authorized to act for the applicant agency and to assume responsibility for the obligations imposed by the terms and conditions of the grant award.

To be considered for funding, each applicant must submit one signed original and two additional copies of the application, including all forms and attachments, to the Application Receipt Point specified in the section titled Deadline at the beginning of the announcement. The original copy of the application must have original signatures.

The application must be typed, double spaced, printed on only one side, with at least ½ inch margins on each side and 1 inch at the top and bottom, using standard 12 Point fonts (such as Times New Roman or Courier). Pages must be numbered.

All copies of an application must be submitted in a single package, and a separate package must be submitted for each funding opportunity. The package must be clearly labeled for the specific funding opportunity that it is addressing.

Because each application will be duplicated, do not use or include separate covers, binders, clips, tabs, plastic inserts, maps, brochures, or any other items that cannot be processed easily on a photocopy machine with an automatic feed. Do not bind, clip, staple, or fasten in any way separate subsections of the application, including supporting documentation; however, each complete copy must be stapled securely in the upper left corner. Applicants are advised that the copies of the application submitted, not the original, will be reproduced by the Federal government for review.

Tips for Preparing a Competitive Application. It is essential that applicants read the entire announcement package carefully before preparing an application and include all of the required application forms and attachments. The application must reflect a thorough understanding of the purpose and objectives of the applicable legislation. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant websites. Before you begin preparing an application, we suggest that you learn more about the mission and programs of the Children's Bureau by exploring the Web site.

Organizing Your Application. The specific evaluation criteria in Section V of this funding announcement will be used to review and evaluate each application. The applicant should address each of these specific evaluation criteria in the project description. Applicants should organize their project description in this sequence: (1) Objectives and Need for Assistance; (2) Approach; (3) Organizational Profiles; (4) Budget and Budget Justification; and should use the same headings as these criteria, so that reviewers can readily find information that directly addresses each of the specific review criteria.

Project Evaluation Plan. Project evaluations are very important. If you do not have the in-house capacity to conduct an objective, comprehensive evaluation of the project, then the Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at: http://www.acf.hhs.gov/programs/opre/other_resrch/pm_guide_eval/reports/pmguide/pmguide_toc.html.

Logic Model. A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at: http://www.uwex.edu/ces/pdande/ or http://www.extension.iastate.edu/cyfar/capbuilding/outcome/outcome_logicmdir.html.

Use of Human Subjects. If your evaluation plan includes gathering data from or about clients, there are specific procedures that must be followed in order to protect their privacy and ensure the confidentiality of the information about them. Applicants planning to gather such data are asked to describe their plans regarding an Institutional Review Board (IRB) review. If applicable, applicants must include a completed Form 310, Protection of Human Subjects. For more information about use of human subjects and IRB's you can visit these Web sites: http://www.hhs.gov/ohrp/irb/irb_chapter2.htm#d2 and http://www.hhs.gov/ohrp/humansubjects/guidance/ictips.htm

You may submit your application to us in either electronic or paper format. To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov

• Electronic submission is voluntary but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

Standard Forms and Certifications:

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application

Applicants must also understand they will be held accountable for the smoking prohibition included within P.L. 103-227, Title XII Environmental Tobacco Smoke (also known as the PRO-KIDS Act of 1994). A copy of the Federal Register notice which implements the smoking prohibition is included with this form. By signing and submitting the application, applicants are providing the certification and need not mail back the certification with the application

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm

Applicants have the option of omitting from the application copies (not the original) specific salary rates or amounts for individuals specified in the application budget and Social Security Numbers, if otherwise required for individuals. The copies may include summary salary information

Those organizations required to provide proof of non-profit status, please refer to Section III.3.

Please see Section V.1 for instructions on preparing the full project description.

3. Submission Dates and Times

Application is due August 5, 2005.

Explanation of Due Dates:

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will not be provided to applicants who submit their package via mail, courier services, or by hand delivery. However, applicants will receive an electronic acknowledgement for applications that are submitted via http://www.Grants.gov.

Checklist:

You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | Found in Section IV | By date of award.
SF424A | See Section IV.2 | See http://www.acf.hhs.gov/programs/ofs/forms.htm | By application due date.
SF424B | See Section IV.2 | See http://www.acf.hhs.gov/programs/ofs/forms.htm | By application due date.
Proof of Non-Profit Status | See Section III.3 | Found in Section III.3 | By date of award.
Indirect Cost rate Agreement, if applicable | See Section IV | Format described in IV | By application due date
Letters of commitment from partner organizations, if applicable | See Section IV | Format described in IV | By application due date.
Non-Federal Commitment Letter | See Section III.2 | See Section III.2 | By date of award.

Additional Forms:

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | May be found on http://www.acf.hhs.gov/programs/ofs/forms.htm | By application due date

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by Federally-recognized Indian Tribes, need take no action in regard to E.O. 12372.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

6. Other Submission Requirements

Submission by Mail: An applicant must provide an original application with all attachments, signed by an authorized representative and two copies. Please see Section IV.3 for explanation of due dates. Applications should be mailed to: ACYF Operations Center, c/o The Dixon Group, Inc., 118 Q St., NE., Washington, DC 20002-2132, Attention: Children's Bureau.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: ACYF Operations Center, c/o The Dixon Group, Inc., 118 Q St., NE., Washington, DC 20002-2132, Attention: Children's Bureau.

Electronic Submission: Please see Section IV.2 for guidelines and requirements when submitting applications electronically via http://www.Grants.gov.

V. Application Review Information

The Paperwork Reduction Act of 1995 (Pub. L. 104-13)

Public reporting burden for this collection of information is estimated to averag 40 hours per response, including the time for reviewing instructions, gathering and maintaining the data needed and reviewing the collection information.

The project description is approved under OMB control number 0970-0139 which expires April 30, 2007.

An agency may not conduct or sponsor, and a person is not required to respond to, a collection of information unless it displays a currently valid OMB control number.

1. Criteria

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying.

“Non Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources

Description: Amounts of non-Federal resources that will be used to support the project as identified in Block 15 of the SF-424.

Justification: The firm commitment of these resources must be documented and submitted with the application so the applicant is given credit in the review process. A detailed budget must be prepared for each funding source.

Evaluation Criteria:

The following evaluation criteria appear in weighted descending order. The corresponding score values indicate the relative importance that ACF places on each evaluation criterion; however, applicants need not develop their applications precisely according to the order presented. Application components may be organized such that a reviewer will be able to follow a seamless and logical flow of information (e.g. from a broad overview of the project to more detailed information about how it will be conducted).

In considering how applicants will carry out the responsibilities addressed under this announcement, competing applications for financial assistance will be reviewed and evaluated against the following criteria:

Approach (50 points)

In reviewing the approach, the following factors will be considered: (50 points)

(1) The extent to which there is a sound timeline for effectively implementing the proposed project, including major milestones and target dates. The extent to which the proposed project would develop an appropriate implementation plan during the first year of the project, complete the implementation of the new model or the replication of the existing model or selected components in a timely manner and conduct a thorough evaluation of its effectiveness within the next two years of the project time frame.

(2) The extent to which the proposed project would enhance the capacity of state and local child welfare agencies to develop and implement effective policies and procedures for identifying and coordinating timely services to substance exposed newborns and their families and through dissemination of findings from the projects, transfer knowledge into practice. The extent to which specific measurable outcomes will occur as a result of the proposed development or replication of model policies and procedures and promising practices. The extent to which there will be a strong relationship between the proposed model development or replication projects and improved outcomes for substance exposed newborns and their families.

(3) The extent to which there will be an effective administrative and organizational interface between the applicant and the appropriate State child welfare agencies, substance abuse treatment agencies, health care providers, and other community agencies. The extent to which there are appropriate letters of commitment from these partner organizations.

(4) The extent to which the application demonstrates a thorough understanding of the challenges and complexities of replicating a model that establishes policies and procedures for the identification, referral and service provision to substance exposed newborns and their families. The extent to which the application demonstrates a thorough understanding of the challenges that the proposed project will have in planning, implementing and evaluating the project and in maintaining fidelity to the original program or practice being replicated. The extent to which the applicant provides a sound plan explaining how the project would successfully overcome these challenges.

(5) The extent to which the proposed project will be capable of serving diverse populations.

(6) The extent to which the design of the proposed project reflects up-to-date knowledge from child welfare, child abuse and neglect and substance abuse research and literature. The extent to which the proposed model development or replication project is innovative and involves strategies that build on, or are an alternative to, existing strategies.

(7) The extent to which the project's evaluation plan would measure achievement of project objectives, customer satisfaction, acquisition of competencies, effectiveness of program services and project strategies, the efficiency of the implementation process, and the impact of the project. The extent to which the methods of evaluation would provide performance feedback, support periodic assessment of program progress and provide a sound basis for program adjustments. The extent to which the proposed evaluation plan would be likely to yield useful findings or results about effective strategies, and contribute to and promote evaluation research and evidence-based practices that could be used to guide model development or replication or testing in other settings. The extent to which applicants who do not have the in-house capacity to conduct an objective, comprehensive evaluation of the project present a sound plan for contracting with a third-party evaluator specializing in social science or evaluation, or a university or college to conduct the evaluation.

(8) The extent to which there is a sound plan for documenting project activities and results, including the development of a data collection infrastructure that is sufficient to support a methodologically sound and rigorous evaluation. The extent to which relevant data would be collected. The extent to which there is a sound plan for collecting these data, securing informed consent and implementing an Institutional Review Board (IRB) review, if applicable.

(9) The extent to which there is a sound plan for developing useful products during the proposed project and a reasonable schedule for developing these products. The extent to which the intended audience (e.g., State and local officials, researchers, policymakers, and practitioners) for product dissemination is comprehensive and appropriate. The extent to which the dissemination plan includes appropriate mechanisms and forums that would effectively convey the information and support successful model development or replication by other interested agencies.

(10) The extent to which there is a sound plan for continuing this project beyond the period of Federal funding.

Organizational Profiles (20 points)

In reviewing the organizational profiles, the following factors will be considered: (20 points)

(1) The extent to which the application evidences sufficient experience and expertise in replicating and implementing model policies and procedures or approaches, especially in the area of service delivery to substance exposed newborns and their families; in supporting collaboration among the child welfare, substance abuse treatment, and health care communities, and other relevant community agencies; in culturally competent service delivery; and in administration, development, implementation, management, and evaluation of similar projects. The extent to which each participating organization (including partners and/or subcontractors) possesses the organizational capability to fulfill its assigned roles and functions effectively (if the application involves partnering and/or subcontracting with other agencies/organizations) in serving families involved with both the child welfare and substance abuse treatment communities.

(2) The extent to which the proposed project director and key project staff possess sufficient relevant knowledge, experience and capabilities to implement and manage a project of this size, scope and complexity effectively (e.g., résumés). The extent to which the role, responsibilities and time commitments of each proposed project staff position, including consultants, subcontractors and/or partners, are clearly defined and appropriate to the successful implementation of the proposed project with respect to serving families with children prenatally exposed to illegal drugs.

(3) The extent to which there is a sound management plan for achieving the objectives of the proposed project on time and within budget, including clearly defined responsibilities, for accomplishing project tasks and ensuring quality. The extent to which the plan clearly describes the effective management and coordination of activities carried out by any partners, subcontractors and consultants (if applicable). The extent to which there would be a mutually beneficial relationship between the proposed project and other work planned, anticipated or underway with Federal assistance by the applicant.

Objectives and Need for Assistance (20 points)

In reviewing the objectives and need for assistance, the following factors will be considered: (20 points)

(1) The extent to which the application demonstrates an understanding of the requirements of the Child Abuse Prevention and Treatment Act (CAPTA), especially the requirements related to development of effective policies and procedures to identify and coordinate services to substance exposed newborns. The extent to which the applicant demonstrates an understanding of relevant program and service issues addressed in the Child and Family Services Reviews (CFSRs) regarding child safety and well-being. The extent to which the applicant demonstrates a clear understanding of the role of the State and local child protective service agencies and their responsibility under CAPTA, for receiving notification of substance exposed births and for coordinating with other community agencies, particularly health and substance abuse treatment agencies, to ensure the safety and well-being of children and families.

(2) The extent to which the application demonstrates a thorough understanding of child abuse and neglect, child welfare and substance abuse treatment issues and services needed, as well as the need for policies and procedures and approaches to identify and serve families with children who have been born prenatally exposed to illegal drugs.

(3) The extent to which the application presents a review of the relevant literature that reflects a clear understanding of the research on best practices and promising approaches as it relates to the proposed project. The extent to which the review of the literature sets a sound context and rationale for the project. The extent to which it provides evidence that the proposed project is innovative and, if successfully implemented and evaluated, likely to contribute to the knowledge base on effective policies and procedures regarding the identification and provision of services to substance exposed newborns and their families and enhancing collaboration among the child welfare, substance abuse, and health care communities.

(4) The extent to which the application presents a clear vision for the proposed model development or replication project to be planned, implemented, and evaluated. The extent to which the applicant makes a clear statement of the goals (end products of an effective project) and objectives (measurable steps for reaching these goals) of the proposed project. The extent to which these goals and objectives closely relate to the service needs of prenatally exposed newborns and the ability of agencies to replicate the critical components of successful service delivery policies and procedures.

(5) The extent to which the lessons learned through the proposed project would benefit state and local agencies in their efforts to develop an effective model of interagency collaboration in the identification, referral and service planning and provision for substance exposed newborns and their families.

(6) The extent to which the proposed project would develop a strong partnership among the child welfare, substance abuse treatment, and health care communities and other relevant community agencies to further the goal of improving the appropriate identification of, and service delivery to, substance exposed newborns and their families.

Budget and Budget Justification (10 points)

In reviewing the budget and budget justification, the following factors will be considered: (10 points)

(1) The extent to which the costs of the proposed project are reasonable and appropriate, in view of the activities to be conducted and expected results and benefits.

(2) The extent to which the applicant's fiscal controls and accounting procedures would ensure prudent use, proper and timely disbursement and accurate accounting of funds received under this program announcement.

2. Review and Selection Process

No grant award will be made under this announcement on the basis of an incomplete application.

Since ACF will be using non-Federal reviewers in the review process, applicants have the option of omitting from the application copies (not the original) of specific salary rates or amounts for individuals specified in the application budget.

A panel of at least three reviewers (primarily experts from outside the Federal government) will use the evaluation criteria described in this announcement to evaluate each application. The reviewers will determine the strengths and weaknesses of each application, provide comments about the strengths and weaknesses and give each application a numerical score.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on underserved or inadequately served clients or service areas and programs addressing diverse ethnic populations.

Approved but Unfunded Applications

Applications that are approved but unfunded may be held over for funding in the next funding cycle, pending the availability of funds, for a period not to exceed one year.

3. Anticipated Announcement and Award Dates

Applications will be reviewed during the Summer 2005. Grant awards will have a start date no later than September 30, 2005.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Grantees are subject to the requirements in 45 CFR Part 74 (non-governmental) or 45 CFR Part 92 (governmental)

Direct federal grants, sub-award funds, or contracts under this program shall not be used to support inherently religious activities such as religious instruction, worship, or proselytization. Therefore, organizations must take steps to separate, in time or location, their inherently religious activities from the services funded under this program. Regulations pertaining to the prohibition of Federal funds for inherently religious activities can be found on the HHS Web site at http://www.os.dhhs.gov/fbci/waisgate21.pdf.

3. Reporting Requirements

Program Progress Reports: Semi-Annually.

Financial Reports: Semi-Annually.

Grantees will be required to submit program progress and financial reports (SF 269) throughout the project period. Program progress and financial reports are due 30 days after the reporting period. In addition, final programmatic and financial reports are due 90 days after the close of the project period.

VII. Agency Contacts

Program Office Contact: Irene Bocella, Children's Bureau, 330 C Street, SW., Washington, DC 20447, phone: 202-205-1723, e-mail: ibocella@acf.hhs.gov.

Grants Management Office Contact: Peter Thompson, Grants Officer, Administration for Children and Families, Children's Bureau, 330 C Street, SW. Room 2070, Washington, DC 20447, phone: 202-401-4608, e-mail: pathompson@acf.hhs.gov.

VIII. Other Information

Additional information about this program and its purpose can be located on the following Web site: http://www.acf.hhs.gov/programs/cb/.

For general information regarding this announcement please contact: ACYF Operations Center, c/o The Dixon Group, Inc. ATTN: Children's Bureau, 118 Q St., NE., Washington, DC 20002-2132, telephone: 866-796-1591.

Notice: Beginning with FY 2005, the Administration for Children and Families (ACF) will no longer publish grant announcements in the Federal Register. Beginning October 1, 2005, applicants will be able to find a synopsis of all ACF grant opportunities and apply electronically for opportunities via: http://www.Grants.gov. Applicants will also be able to find the complete text of http://www.acf.hhs.gov/grants/index.html.

Please reference Section IV.3 for details about acknowledgement of received applications.

Dated: May 25, 2005.
Susan Orr,
Acting Commissioner, Administration on Children, Youth and Families.

[FR Doc. 05-11196 Filed 6-3-05; 8:45 am]

BILLING CODE 4184-01-P